FEDERAL COMMUNICATIONS COMMISSION

47 CFR Part 51

[WC Docket No. 18-156; DA 21-42; FRS 17407]

Petition for Reconsideration of Action in Proceeding

AGENCY: Federal Communications Commission.

ACTION: Petition for reconsideration.

SUMMARY: USTelecom—The Broadband Association (USTelecom) has filed a Petition for Reconsideration (Petition) in Federal Communications Commission (FCC) WC Docket No. 18-156.

DATES: Oppositions to the Petition must be filed on or before February 17, 2021. Replies to any oppositions must be filed on or before March 1, 2021.

ADDRESSES: Federal Communications Commission, 45 L Street NE, Washington, DC 20554.

FOR FURTHER INFORMATION CONTACT: Ahuva Battams, Pricing Policy Division, Wireline Competition Bureau, at (202) 418-1565 or via email at ahuva.battams@fcc.gov.

SUPPLEMENTARY INFORMATION: This is a summary of the FCC's Public Notice, DA 21-42, released January 12, 2021. The full text of the FCC's Public Notice is available at: (https://docs.fcc.gov/public/attachments/DA-21-42A1.pdf). The full text of USTelecom's Petition for Reconsideration is available at: https://ecfsapi.fcc.gov/file/1228118483840/USTelecom%208YY%20PFR%20Draft%2012.28.20%20FINAL.pdf.

USTelecom requests reconsideration of the portion of the 8YY Access Charge Reform Order related to a revenue recovery mechanism for price cap incumbent local exchange carriers.¹

¹ See USTelecom—The Broadband Association Petition for Reconsideration, WC Docket No. 18-156 (filed Dec. 28, 2020) (seeking partial reconsideration of 8YY Access Charge Reform, WC Docket No. 18-156, Report and Order, 35 FCC Rcd 11594 (2020) (8YY Access Charge Reform Order)).

Pursuant to the Commission's rules, oppositions to the Petition for Reconsideration must be filed no later than 15 days after the publication date of this Public Notice in the Federal Register and replies to oppositions must be filed no later than 10 days thereafter.² Oppositions and replies may be filed using the Commission's Electronic Comment Filing System, or by filing paper copies.

² 47 CFR 1.429(f)-(g).

Subject: 8YY Charge Reform, FCC 20-143, published at 85 FR 75894, November 27, 2020, in WC Docket No. 18-156. This document is being published pursuant to 47 CFR 1.429(e). See also 47 CFR 1.4(b)(1) and 1.429(f), (g).

Number of Petitions Filed: 1.

Federal Communications Commission.
Daniel Kahn,
Associate Bureau Chief, Wireline Competition Bureau.

Editorial Note: This document was received at the Federal Register on January 19, 2021.

[FR Doc. 2021-01579 Filed 1-29-21; 4:15 pm]

BILLING CODE 6712-01-P